DEPARTMENT OF THE INTERIOR

Fish and Wildlife Service

Notice of Intent To Prepare a Comprehensive Conservation Plan and Environmental Impact Statement for Back Bay National Wildlife Refuge

AGENCY: Fish and Wildlife Service, Interior.

ACTION: Notice of intent.

SUMMARY: This notice advises the public that the U.S. Fish and Wildlife Service (Service) intends to gather information necessary to prepare a Comprehensive Conservation Plan (CCP) and Environmental Impact Statement (EIS) pursuant to the National Environmental Policy Act and its implementing regulations. A CCP will be prepared for Back Bay National Wildlife Refuge (NWR) located within the City of Virginia Beach, Virginia. A Wilderness Review of Back Bay NWR will also be completed concurrently in accordance with the Wilderness Act of 1964, as amended and Refuge Planning Policy 602 FW Chapters 1, 2, and 3. The Service is furnishing this notice in compliance with the National Wildlife Refuge System Administration Act of 1966, as amended (16 U.S.C. 668dd et seq.): (1) To advise other agencies and the public of our intentions; and (2) to obtain suggestions and information on the scope of issues to include in the environmental documents.

ADDRESSES: Address comments, questions, and request for more information to the following: Refuge Manager, Back Bay National Wildlife Refuge, 4005 Sandpiper Road, Virginia Beach, VA 23456-4325, 757-721-2412.

SUPPLEMENTARY INFORMATION: By Federal law, all lands within the National Wildlife Refuge System are to be managed in accordance with an approved CCP. The CCP guides management decisions and identifies refuge goals, long-range objectives, and strategies for achieving refuges purposes. The planning process will consider many elements including habitat and wildlife management, habitat protection and acquisition, public uses, and cultural resources. Public input into this planning process is essential. The CCP will provide other agencies and the public with a clearer understanding of the desired future conditions for Back Bay National Wildlife Refuge and how the Service will implement management strategies.

The Service has already held a series of local public meetings in Virginia Beach during January 2002 to solicit comments. The Service will continue to solicit public input via open houses, public meetings, workshops, and written comments. Special mailings, newspaper articles, and announcements will inform people of the time and place of additional opportunities for public input to the CCP. Back Bay NWR encompasses over 8,700 acres of beach, dunes, woodland, farm fields, and marsh habitats. Comments on the protection of threatened and endangered species and migratory birds, and the protection and management of their habitats will be solicited as part of the planning process. A Draft CCP and EIS are planned for public review in 2003.

Review of the project will be conducted in accordance with the requirements of the National Environmental Policy Act (NEPA) of 1969, as amended (42 U.S.C. 4321 et seq.), NEPA Regulations (40 CFR Parts 1500-1508), other appropriate Federal laws and regulations, and Service policies and procedures for compliance with those regulations.

Mamie A. Parker,
Regional Director, U.S. Fish and Wildlife Service, Hadley, Massachusetts.

[FR Doc. 02-11326 Filed 5-7-02; 8:45 am]

BILLING CODE 4310-55-P